DEPARTMENT OF THE INTERIOR

Minerals Management Service

Preparation of an Environmental Assessment for Proposed Outer Continental Shelf Oil and Gas Lease Sale 200 in the Western Gulf of Mexico (2006)

AGENCY: Minerals Management Service, Interior.

ACTION: Preparation of an environmental assessment.

SUMMARY: The Minerals Management Service (MMS) is issuing this notice to advise the public, pursuant to the National Environmental Policy Act of 1969 (NEPA), as amended, 42 U.S.C. 4321 et seq., that MMS intends to prepare an environmental assessment (EA) for proposed Outer Continental Shelf (OCS) oil and gas Lease Sale 200 in the Western Gulf of Mexico (GOM) (Lease Sale 200) scheduled for August 2006. The MMS is issuing this notice to facilitate public involvement. The preparation of this EA is an important step in the decision process for Lease Sale 200. The proposal and alternatives for Lease Sale 200 were identified by the MMS Director in January 2002 following the Call for Information and Nominations/Notice of Intent to Prepare an Environmental Impact Statement (EIS) and were analyzed in the Gulf of Mexico OCS Oil and Gas Lease Sales: 2003-2007; Central Planning Area Sales 185, 190, 194, 198, and 201; Western Planning Area Sales 187, 192, 196, and 200—Final Environmental Impact Statement; Volumes I and II (Multisale EIS, OCS EIS/EA MMS 2002-052). This EA will reexamine the potential environmental effects of the proposed action (the offering of all available unleased acreage in the Western Planning Area (WPA)) and its alternatives (the proposed action excluding the unleased blocks near biologically sensitive topographic features; and no action) based on any new information regarding potential impacts and issues that were not available at the time the Multisale EIS was prepared.

FOR FURTHER INFORMATION CONTACT: Mr. Dennis Chew, Minerals Management Service, Gulf of Mexico OCS Region, 1201 Elmwood Park Boulevard, MS 5410, New Orleans, Louisiana 70123-2394. You may also contact Mr. Chew by telephone at (504) 736-2793.

SUPPLEMENTARY INFORMATION: In November 2002, MMS prepared a Multisale EIS that addressed nine proposed Federal actions that offer for lease areas on the GOM OCS that may contain economically recoverable oil and gas resources. Federal regulations allow for several related or similar proposals to be analyzed in one EIS (40 CFR 1502.4). Since each proposed lease sale and its projected activities are very similar each year for each planning area, a single EIS was prepared for the nine Central Planning Area (CPA) and WPA lease sales scheduled in the OCS Oil and Gas Leasing Program: 2002-2007 (5-Year Program, OCS EIS/EA MMS 2002-006). Under the current 5-Year Program, five annual areawide lease sales were scheduled for the CPA (Lease Sales 185, 190, 194, 198, and 201) and five annual areawide lease sales were scheduled for the WPA (Lease Sales 184, 187, 192, 196, and 200). Lease Sale 184 was not addressed in the Multisale EIS; a separate EA was prepared for that proposal. The Multisale EIS addressed CPA Lease Sales 185, 190, 194, 198, and 201 scheduled for 2003, 2004, 2005, 2006, and 2007, respectively, and WPA Lease Sales 187, 192, 196, and 200 scheduled for 2003, 2004, 2005, and 2006, respectively. Although the Multisale EIS addresses nine proposed lease sales, decisions were made only for proposed CPA Lease Sale 185 and proposed WPA Lease Sale 187 based on the EIS. For the subsequent sales, an additional NEPA review (an EA) will be conducted the year prior to each proposed lease sale, to address any new information relevant to that proposed action. After completion of the EA, MMS will determine whether to prepare a Finding of No New Significant Impact (FONNSI) or a Supplemental EIS. The MMS will then prepare and send Consistency Determinations (CD's) to the affected States to determine whether the lease sale is consistent with their federally-approved State coastal zone management programs. Finally, MMS will solicit comments via the Proposed Notice of Sale (PNOS) from the governors of the affected States on the size, timing, and location of the lease sale. The tentative schedule for the prelease decision process for Lease Sale 200 is as follows: EA/FONNSI or Supplemental EIS decision, March 2006; CD's sent to affected States, March 2006; PNOS sent to governors of the affected States, March 2006; Final Notice of Sale published in the Federal Register, July 2006; and Lease Sale 200, August 2006.

Public Comments

Interested parties are requested to send within 30 days of this Notice's publication comments regarding any new information or issues that should be addressed in the EA. Comments may be submitted in one of the following three ways:

1. Electronically using MMS's new Public Connect on-line commenting system at https://ocsconnect.mms.gov. This is the preferred method for commenting. From the Public Connect “Welcome” screen, search for “WPA Lease Sale 200 EA” or select it from the “Projects Open for Comment” menu.

2. In written form enclosed in an envelope labeled “Comments on WPA Lease Sale 200 EA” and mailed (or hand carried) to the Regional Supervisor, Leasing and Environment (MS 5410), Minerals Management Service, Gulf of Mexico OCS Region, 1201 Elmwood Park Boulevard, New Orleans, Louisiana 70123-2394.

3. Electronically to the MMS e-mail address: environment@mms.gov.

To obtain single copies of the Multisale EIS, you may contact the Minerals Management Service, Gulf of Mexico OCS Region, Attention: Public Information Office (MS 5034), 1201 Elmwood Park Boulevard, Room 114, New Orleans, Louisiana 70123-2394 (1-800-200-GULF). You may also view the Multisale EIS or check the list of libraries that have copies of the Multisale EIS on the MMS Web site at http://www.gomr.mms.gov.

Dated: October 24, 2005.
Chris C. Oynes,
Regional Director, Gulf of Mexico OCS Region.

[FR Doc. 05-23073 Filed 11-21-05; 8:45 am]

BILLING CODE 4310-MP-P